DEPARTMENT OF COMMERCE

International Trade Administration

[A-201-838]

Seamless Refined Copper Pipe and Tube from Mexico: Rescission, in Part, of Antidumping Duty Administrative Review; 2012-2013

AGENCY: Enforcement and Compliance, International Trade Administration, Department of Commerce.

DATES: Effective Date: May 28, 2014.

FOR FURTHER INFORMATION CONTACT: Elizabeth Eastwood or Dennis McClure, AD/CVD Operations, Office II, Enforcement and Compliance, International Trade Administration, U.S. Department of Commerce, 14th Street and Constitution Avenue NW., Washington, DC 20230; telephone: (202) 482-3874 or (202) 482-5973, respectively. Background:

On November 1, 2013, the Department of Commerce (Department) published a notice of opportunity to request an administrative review of the antidumping duty order on seamless refined copper pipe and tube from Mexico covering the period November 1, 2012, through October 31, 2013.¹ The Department received a timely request for an antidumping duty administrative review from the petitioners (i.e., Cerro Flow Products, LLC; Wieland Copper Products, LLC; Mueller Copper Tube Products, Inc.; and Mueller Copper Tube Company, Inc.) for the following companies: (1) GD Affiliates S. de R.L. de C.V. (Golden Dragon); (2) IUSA, S.A. de C.V. (IUSA); (3) Luvata Juarez S. de R.L. de C.V. (Luvata Juarez); (4) Luvata Monterrey S. de R.L. de C.V. (Luvata Monterrey); and (5) Nacional de Cobre, S.A. de C.V. (Nacobre). The Department also received timely requests for an antidumping duty administrative review from Golden Dragon and Nacobre. On December 30, 2013, the Department published a notice of initiation of administrative review with respect to these companies.²

¹ See Antidumping or Countervailing Duty Order, Finding, or Suspended Investigation; Opportunity To Request Administrative Review, 78 FR 65612 (Nov. 1, 2013).

² See Initiation of Antidumping and Countervailing Duty Administrative Reviews and Request for Revocation in Part, 78 FR 79392 (Dec. 30, 2013).

On March 31, 2014, the petitioners withdrew their request for an administrative review for all five companies noted above; this submission was timely, pursuant to 19 CFR 351.213(d)(1). On April 7, 2014, Nacobre also withdrew its request for an administrative review. However, because this submission was received after the 90-day deadline for withdrawal requests, on April 8, 2014, the Department denied Nacobre's request as untimely.

Rescission, In Part

Pursuant to 19 CFR 351.213(d)(1), the Secretary will rescind an administrative review, in whole or in part, if a party that requested the review withdraws the request within 90 days of the date of publication of the notice of initiation of the requested review. The petitioners' request was submitted within the 90-day period and, thus, is timely. Because this withdrawal of request for an antidumping duty administrative review is timely and because no other party requested a review for IUSA, Luvata Juarez, and Luvata Monterrey, in accordance with 19 CFR 351.213(d)(1), we are rescinding this administrative review with respect to these companies. We are continuing the administrative review with respect to Golden Dragon and Nacobre because both companies have requested reviews on their own behalf and we did not receive a timely withdrawal of review request from either party.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: May 21, 2014.
Christian Marsh,
Deputy Assistant Secretary for Antidumping and Countervailing Duty Operations.

[FR Doc. 2014-12390 Filed 5-27-14; 8:45 am]

BILLING CODE 3510-DS-P